SMALL BUSINESS ADMINISTRATION

[Declaration of Disaster #3259]

State of Texas

Liberty County and the contiguous counties of Chambers, Hardin, Harris, Jefferson, Montgomery, Polk, and San Jacinto in the State of Texas constitute a disaster area as a result of damages caused by severe thunderstorms, flooding, and a tornado that occurred on May 19-20, 2000. Applications for loans for physical damage as a result of this disaster may be filed until the close of business on July 31, 2000, and for economic injury until the close of business on March 2, 2001 at the address listed below or other locally announced locations: U.S. Small Business Administration, Disaster Area 3 Office, 4400 Amon Carter Blvd., Suite 102, Ft. Worth, TX 76155.

The interest rates are:

| Percent
For Physical Damage:
Homeowners With Credit Available Elsewhere | 7.375
Homeowners Without Credit Available Elsewhere | 3.687
Businesses With Credit Available Elsewhere | 8.000
Businesses and Non-Profit Organizations Without Credit Available Elsewhere | 4.000
Others (Including Non-Profit Organizations) With Credit Available Elsewhere | 6.750
For Economic Injury:
Businesses and Small Agricultural Cooperatives Without Credit Available Elsewhere | 4.000

The numbers assigned to this disaster are 325906 for physical damage and 9H4600 for economic injury.

(Catalog of Federal Domestic Assistance Program Nos. 59002 and 59008)
Dated: May 30, 2000.
Kris Swedin,
Acting Administrator.

[FR Doc. 00-14550 Filed 6-8-00; 8:45 am]

BILLING CODE 8025-01-U